DEPARTMENT OF HEALTH AND HUMAN SERVICES

Food and Drug Administration

[Docket No. FDA-2015-N-0012]

Partnership To Develop the Branded Food Products Database for Public Health (R01)

AGENCY: Food and Drug Administration, HHS.

ACTION: Notice.

SUMMARY: The Food and Drug Administration (FDA) is announcing the availability of grant funds for the support of the Agricultural Technology Innovation Partnership's (ATIP) Branded Food Products Database for Public Health. ATIP, in conjunction with the U.S. Department of Agriculture (USDA) Agricultural Research Service (ARS) and the International Life Science Institute North America (ILSI North America), has established a public-private partnership to enhance the public's health. The Office of Foods and Veterinary Medicine (OFVM) has grant funds available to help support ATIP consolidate food composition data from manufacturers. OFVM's goal is to monitor the sodium content of branded foods and to make nutrient composition data available to the public.

DATES: Important dates are as follows:

1. The application due date is April 2, 2015.

2. The anticipated start date is May 2015.

3. The opening date is February 13, 2015.

4. The expiration date is April 3, 2015.

ADDRESSES: For more information, see section III of the SUPPLEMENTARY INFORMATION section of this notice.

FOR FURTHER INFORMATION CONTACT: Claudine Kavanaugh, Office of Foods and Veterinary Medicine, 10903 New Hampshire Ave., Silver Spring, MD 20993, 301-796-4647; or Vieda Hubbard, Division of Acquisition Support and Grants, Food and Drug Administration, 5630 Fishers Lane (HFA-500), Rockville, MD 20857, 240-402-7588.

For more information on this funding opportunity announcement (FOA) and to obtain detailed requirements, please refer to the full FOA.

SUPPLEMENTARY INFORMATION:

I. Funding Opportunity Description

RFA-FD-15-005

93.103

A. Background

OFVM is interested in monitoring the sodium content of branded foods in the U.S. marketplace. Knowing the nutrient profile of branded foods is critical to FDA's work and to the public's health. Public health experts have linked excessive sodium consumption to hypertension, cardiovascular disease, and other chronic diseases. A database that reflects the sodium content of foods will help OFVM research strategies regarding sodium reduction and help the public maintain healthy diets.

OFVM has funds available for ATIP to compile compositional data for branded foods for the public's benefit. ATIP, through ILSI North America and USDA, has experience engaging the private sector and expertise compiling brand data. With OFVM's fiscal contribution, ATIP will be able to build upon USDA's National Nutrient Database—widely recognized as the gold standard for food compositional data—in a timely fashion. ATIP's database will reflect the breadth and depth of the nation's food supply and will facilitate nutrition analysis and research that otherwise may not be possible.

The research community, healthcare professionals, the food industry, and policymakers will use ATIP's database. For example, drafters of the National Health and Nutrition Examination Survey will be able to more accurately characterize food selection and sodium consumption for Americans. Medical researchers will be able to better link sodium intake to measures of chronic diseases. Food manufacturers will be able to compare information to improve product formulations. Policy-making bodies will be able to develop better guidelines that will promote public health. Ultimately, having more robust sodium data available will allow FDA to develop targeted sodium reduction strategies and the public to better monitor sodium intake.

B. Research Objectives

ATIP will compile compositional data for branded foods for the public's benefit. The database will include food group information on branded foods and branded restaurant food products. ATIP will manage a large volume of date-stamped branded product information to link food intake and nutrient composition to dietary patterns recommendations. ATIP will collect and publish comprehensive food compositional data, including sodium content, in a timely fashion.

C. Eligibility Information

This grant is available solely for ATIP. Through ILSI North America and USDA, respectively, ATIP has existing relationships with industry and years of food compositional data upon which ATIP can build. ATIP has already demonstrated that its database can effectively manage a large volume of date-stamped branded product information. Compiling additional compositional data for branded foods will allow FDA to link sodium intake and composition data to dietary patterns recommendations more efficiently.

II. Award Information/Funds Available

A. Award Amount

OFVM has $35,000 available for a single award to a single grantee—ATIP.

B. Length of Support

This grant is available for 1 year from the start date.

III. Electronic Application, Registration, and Submission

Only electronic applications will be accepted. To submit an electronic application in response to this FOA, applicant should first review the full announcement. (FDA has verified the Web site addresses throughout this document, but FDA is not responsible for any subsequent changes to the Web sites after this document publishes in the Federal Register.) For all electronically submitted applications, the following steps are required.

• Step 1: Obtain a Dun and Bradstreet (DUNS) Number

• Step 2: Register With System for Award Management (SAM)

• Step 3: Obtain Username & Password

• Step 4: Authorized Organization Representative (AOR) Authorization

• Step 5: Track AOR Status

• Step 6: Register With Electronic Research Administration (eRA) Commons

Steps 1 through 5, in detail, can be found at http://www07.grants.gov/applicants/organization_registration.jsp. Step 6, in detail, can be found at https://commons.era.nih.gov/commons/registration/registrationInstructions.jsp. After you have followed these steps, submit electronic applications to: http://www.grants.gov.

Dated: February 10, 2015.
Leslie Kux,
Associate Commissioner for Policy.

[FR Doc. 2015-03690 Filed 2-23-15; 8:45 am]

BILLING CODE 4164-01-P